OVERSEAS PRIVATE INVESTMENT CORPORATION

Government In the Sunshine Meeting Notice

TIME AND DATE: Thursday, June 13, 2013, 10 a.m. (Open Portion); 10:15 a.m. (Closed Portion).

PLACE: Offices of the Corporation, Twelfth Floor Board Room, 1100 New York Avenue NW., Washington, DC

STATUS: Meeting open to the Public from 10 a.m. to 10:15 a.m. Closed portion will commence at 10:15 a.m. (approx.).

Matters To Be Considered

1. President's Report

2. Confirmation—Margaret L. Kuhlow as Vice President, Office of Investment Policy

3. Minutes of the Open Session of the March 21, 2013 Board of Directors Meeting

Further Matters To Be Considered (Closed to the Public 10:15 a.m.)

1. Finance Project—Chile

2. Finance Project—Chile

3. Finance Project—Malaysia

4. Finance Project—Uruguay

5. Minutes of the Closed Session of the March 21, 2013 Board of Directors Meeting

6. Reports

7. Pending Major Projects

Written summaries of the projects to be presented will be posted on OPIC's Web site on or about May 23, 2013.

FOR FURTHER INFORMATION CONTACT: Information on the meeting may be obtained from Connie M. Downs at (202) 336-8438.

Dated: May 23, 2013.
Connie M. Downs,
Corporate Secretary, Overseas Private Investment Corporation.

[FR Doc. 2013-12669 Filed 5-23-13; 11:15 am]

BILLING CODE 3210-01-P